NATIONAL AERONAUTICS AND SPACE ADMINISTRATION

[Notice (09-023)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: March 11, 2009.

FOR FURTHER INFORMATION CONTACT: Bryan A. Geurts, Patent Counsel, Goddard Space Flight Center, Mail Code 140.1, Greenbelt, MD 20771-0001; telephone (301) 286-7351; fax (301) 286-9502.

NASA Case No. GSC-15377-1: Advanced Adhesive Bond Shape Tailoring for Large Composite Primary Structures Subjected to Cryogenic and Ambient Loading Environments;

NASA Case No. GSC-15431-1: A Two-Axis Direct Fluid Shear Stress Sensor.

Dated: March 4, 2009.
Richard W. Sherman,
Deputy General Counsel.

[FR Doc. E9-5092 Filed 3-10-09; 8:45 am]

BILLING CODE 7510-13-P